DEPARTMENT OF HEALTH AND HUMAN SERVICES

National Institutes of Health

National Institute of Biomedical Imaging and Bioengineering; Amended Notice of Meeting

Notice is hereby given of a time and room change in the meeting of the National Advisory Council for Biomedical Imaging and Bioengineering, September 11, 2019, 08:30 a.m., to September 11, 2019, 03:00 p.m., The William F. Bolger Center, Franklin Building, #1, 9600 Newbridge Drive, Potomac, MD 20854 which was published in the Federal Register on March 29, 2019, 84 FR 11988.

The meeting notice is amended to change the start time of the meeting from September 11, 2019, 08:30 a.m. to September 11, 2019, 09:00 a.m. The meeting room is changed from the William F. Bolger Center, Franklin Building, Classroom 1, to the William F. Bolger Center, Franklin Building, Classrooms 15/16. The meeting is partially closed to the public.

Dated: July 31, 2019.
Sylvia L. Neal,
Program Analyst, Office of Federal Advisory Committee Policy.

[FR Doc. 2019-16710 Filed 8-5-19; 8:45 am]

BILLING CODE 4140-01-P